DEPARTMENT OF ENERGY

Federal Energy Regulatory Commission

[Docket No. CP03-13-000]

Northwest Pipeline Corporation; Notice of Intent To Prepare an Environmental Assessment of the Proposed Clackamas Project and Request for Comments on Environmental Issues

January 3, 2003.

The staff of the Federal Energy Regulatory Commission (FERC or Commission) will prepare an environmental assessment (EA) that will discuss the environmental impacts of the Clackamas Project involving abandonment of facilities by Northwest Pipeline Corporation (Northwest) in Clackamas County, Oregon.¹ These facilities would consist of 1.42 miles of pipeline on its Camas to Eugene Lateral (Lateral) that would be abandoned. This EA will be used by the Commission in its decision-making process to determine whether the project is in the public convenience and necessity.

¹ Northwest's application was filed with the Commission under Section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Northwestprovided to landowners. This fact sheet addresses a number of typically asked questions, including the use of eminent domain and how to participate in the Commission's proceedings. It is available for viewing on the FERC Internet Web site (www.ferc.gov).

Summary of the Proposed Project

Northwest proposes to abandon in place and by removal 1.42 miles (7,500 feet) of its 16-inch-diameter Lateral from mileposts (MPs) 19.57 to 20.99. part of this pipeline crosses the Clackamas River. River scour from high flood events has exposed part of the pipeline traversing the Clackamas River and poses a navigational hazard for recreational users. Northwest plans to take the this portion of the Lateral out of service. Service from the Lateral would be maintained by Northwest's use of a 20-inch-diameter loop that parallels the Lateral. Northwest seeks authority to:

• Abandon in place a 5,850-foot-long segment of pipeline from MP 19.57 near the Southeast Portland Meter Station to MP 19.68 on the north bank of the north channel of the Clackamas River;

• Abandon by removal a 370-foot-long segment of pipeline from MP 19.68 to MP 19.75 in the north channel of the Clackamas River. No disturbance of Northwest's parallel 20-inch-diameter loop is required;

• Abandon in place a 1,267-foot-long segment of pipeline from MP 20.75 to MP 20.99 beginning at the northern edge of an island that separates the north and south channels of the Clackamas River, and ending just north of the Oregon City Compressor Station;

• Construct and operate a temporary pig launching facility within the existing fenced-in yard of the Southeast Portland Meter Station, and a temporary pig receiving facility just north of the Oregon City Compressor Station.

The segments of pipeline to be abandoned in place will be purged with nitrogen and capped. The location of the project facilities is shown in appendix 1, figures 1-3.²

² The appendices referenced in this notice are not being printed in the Federal Register. Copies are available on the Commission's Web site at the “FERRIS” link or from the Commission's Public Reference and Files Maintenance Branch, 888 First Street, NE., Washington, DC 20426, or call (202) 502-8371. For instructions on connecting to FERRIS refer to the last page of this notice. Copies of the appendices were sent to all those receiving this notice in the mail.

Land Requirements for Construction

Construction of the proposed facilities would require 13.9 acres of land, most of which would be temporary right-of-way. This land is comprised of residential property, riverine shoreline (river island), emergent and forested wetlands, and open water. No new permanent right-of-way would be required, and all temporary right-of-way would be restored to previous condition. Northwest plans to retain and maintain as before its permanent right-of-way along all portions of the pipeline to be abandoned.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ ”We”, “us”, and “our” refer to the environmental staff of the Office of Energy Projects (OEP).

The EA will discuss impacts that could occur as a result of the construction and operation of the proposed project under these general headings:

• Geology and soils;

• Land use;

• Water resources, fisheries,and wetlands

• Cultural resources;

• Vegetation and wildlife;

• Air quality and noise;

• Endangered and threatened species;

• Public safety.

We will make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Northwest. This preliminary list of issues may be changed based on your comments and our analysis.

• Residential area in and around the Eiler's Circle access road and the SR 224 access road on the north side of the Clackamas River.

• Suitable habitat for federally listed or proposed threatened and endangered species, including Coho salmon, Chinook salmon, steeled and cutthroat trout, may occur in the project area.

• Temporary disturbance of 7.7 acres of wetlands and open water associated with the Clackamas River, including temporary construction of a dry-area structure in the north channel.

Public Participation

You can make a difference by providing us with your specific comments or concerns about the project. By becoming a commentor, your concerns will be addressed in the EA and considered by the Commission. You should focus on the potential environmental effects of the proposal and measures to avoid or lessen environmental impact. The more specific your comments, the more useful they will be. Please carefully follow these instructions to ensure that your comments are received in time and properly recorded:

1. Send an original and two copies of your letter to: Magalie R. Salas, Secretary, Federal Energy Regulatory Commission, 888 First St., NE., Room 1A, Washington, DC 20426.

2. Label one copy of the comments for the attention of Gas 2 Branch.

3. Reference Docket No. CP03-013-000.

4. Mail your comments so that they will be received in Washington, DC on or before February 3, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

We may mail the EA for comment. If you are interested in receiving it, please return the Information Request (appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). ⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of formal documents issued by the Commission, such as orders, notices, and rulemakings.

Magalie R. Salas,
Secretary.

[FR Doc. 03-465 Filed 1-9-03; 8:45 am]

BILLING CODE 6717-01-P